DEPARTMENT OF EDUCATION

Applications for New Awards; Training and Information for Parents of Children With Disabilities—Parent Training and Information Centers and Parent Information and Training Program

AGENCY: Office of Special Education and Rehabilitative Services, Department of Education.

ACTION: Notice.

SUMMARY: The Department of Education (Department) is issuing a notice inviting applications for new awards for fiscal year (FY) 2020 for Training and Information for Parents of Children with Disabilities—Parent Training and Information Centers, Catalog of Federal Domestic Assistance (CFDA) number 84.328M, and Parent Information and Training program, CFDA number 84.235F. These centers will provide objective information, resources, and impartial training that support parents and youth in working in partnership with professionals to establish and meet high expectations for children and youth with disabilities. This notice relates to approved information collections under OMB control numbers 1820-0018 and 1820-0028.

DATES:

Applications Available: April 21, 2020.

Deadline for Transmittal of Applications: June 22, 2020.

Date of 84.328M Pre-Application Meeting: OSERS will conduct a pre-application meeting specific to these competitions via webinar on May 4, 2020, at 4:00 p.m., Eastern Time.

In addition, no later than April 27, 2020, the Office of Special Education Programs (OSEP) will post a pre-recorded informational webinar designed to provide technical assistance to interested applicants. Information about the teleconference and the pre-recorded webinar may be found at www2.ed.gov/fund/grant/apply/osep/new-osep-grants.html.

Date of 84.235F Pre-Application Meeting: The Office of Special Education and Rehabilitative Services (OSERS) will post a PowerPoint presentation that provides general information related to RSA's discretionary grant competitions and a PowerPoint presentation specifically related to this Parent Information and Training Program competition at https://ncrtm.ed.gov/RSAGrantInfo.aspx. OSERS will conduct a pre-application meeting specific to this competition via conference call in order to respond to questions on May 5, 2020 at 1:00 p.m. Eastern Time. OSERS invites you to send questions to tara.jordan@ed.gov in advance of the pre-application meeting. The teleconference information, including the 84.235F pre-application meeting summary of the questions and answers, will be available at https://ncrtm.ed.gov/RSAGrantInfo.aspx within 6 days after the pre-application meeting.

Deadline for Intergovernmental Review: August 19, 2020.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: For 84.328M, Carmen Sanchez, U.S. Department of Education, 400 Maryland Avenue SW, Room 5162, Potomac Center Plaza, Washington, DC 20202-5076. Telephone: (202) 245-6595. Email: Carmen.Sanchez@ed.gov. For 84.235F, Tara Jordan, U.S. Department of Education, 400 Maryland Avenue SW, Room 5058E, Potomac Center Plaza, Washington, DC 20202-5076. Telephone: (202) 245-7341. Email: Tara.Jordan@ed.gov.

If you use a telecommunications device for the deaf (TDD) or a text telephone (TTY), call the Federal Relay Service (FRS), toll free, at 1-800-877-8339.

SUPPLEMENTARY INFORMATION:

Full Text of Announcement

I. Funding Opportunities Description

Purpose of Programs: The purpose of the Training and Information for Parents of Children with Disabilities—Parent Training and Information Centers program, CFDA number 84.328M, is to ensure that parents of children with disabilities receive impartial training and objective information to help improve outcomes and raise expectations for their children. The Parent Information and Training program, CFDA number 84.235F, is designed to support projects that provide impartial training and objective information to enable individuals with disabilities, and the parents, family members, guardians, advocates, or other authorized representatives of the individuals (hereafter collectively referred to as “individuals with disabilities and their families”), to participate more effectively with professionals in meeting the vocational, independent living, and rehabilitation needs of individuals with disabilities. This program is designed to meet the unique training and information needs of those individuals who live in the area to be served, particularly those who are members of populations that have been unserved or underserved by programs under the Rehabilitation Act of 1973, as amended (Rehabilitation Act).

Priorities: In accordance with 34 CFR 75.105(b)(2)(iv) and (v), the CFDA 84.328M Absolute Priority is from allowable activities specified in the statute, or otherwise authorized in the statute (see sections 671 and 681(d) of the Individuals with Disabilities Education Act (IDEA); 20 U.S.C. 1471 and 1481). In accordance with 34 CFR 75.105(b)(2)(v), the CFDA 84.235F Absolute Priority is from allowable activities specified in the statute (see section 303(c)(2) of the Rehabilitation Act; 29 U.S.C. 773(c)(2)).

Absolute Priorities: For FY 2020 and any subsequent year in which we make awards from the list of unfunded applications from this competition, these priorities are absolute priorities. Under 34 CFR 75.105(c)(3) we consider only applications that meet one or both of these priorities.

Note: Eligible applicants may apply for both absolute priorities but must submit separate applications for each absolute priority. An applicant may apply only once under each identified region of the CFDA 84.235F priority. An applicant may apply only once under the CFDA 84.328M priority, except an applicant may apply for multiple regional centers within a single State and must submit a separate application for each region (see page 24 for a list of States within each region). For example, an applicant applying for the 84.328M grant for Idaho and the 84.235F grant for region D-2, which contains Idaho, must submit separate applications under both CFDA numbers. Or an applicant submitting for multiple 84.328M regions within Texas must submit separate applications for each region. If the applicant also applies for an 84.235F grant for region B-2, which contains Texas, the applicant must submit a separate application for the 84.235F grant. Applicants that apply for both absolute priority 1 and 2 are encouraged to address in their applications how they will work to provide seamless services for families and individuals with disabilities receiving services under both the IDEA and the Rehabilitation Act.

These priorities are:

CFDA 84.328M Absolute Priority—Parent Training and Information Centers.

Background:

The purpose of this priority is to fund 65 Parent Training and Information Centers (PTIs) designed to meet the information and training needs of parents ¹ of infants, toddlers, children, and youth with disabilities,² ages birth through 26 (collectively, “children with disabilities”), and the information and training needs of youth with disabilities living in the States or regions of the States served by the centers. These PTIs, consistent with statute, will provide individualized assistance, training, and resources to help parents work with schools, early childhood providers, and early childhood and educational systems to meet the unique needs of their children and set high expectations and challenging objectives for every child with a disability. PTIs will also provide high-quality, accurate, and impartial information to families of children with disabilities on the range of educational options that may be available in their State and local community and will coordinate with Community Parent Resource Centers (CPRCs) (CFDA 84.328C) that may be funded in their respective States or regions of their States.

¹ The term “parent” includes natural, adoptive, and foster parents, guardians, and individuals acting in the role of “parent” as defined in section 602(23) of IDEA. (20 U.S.C. 1401(23)).

² The term “disabilities” refers to the full range of disabilities described in section 602(3) of IDEA. (20 U.S.C. 1401(3)).

PTIs (www.parentcenterhub.org/find-your-center/) promote the effective education of children with disabilities by “strengthening the role and responsibility of parents and ensuring that families of such children have meaningful opportunities to participate in the education of their children at school and at home” (section 601(c)(5)(B) of IDEA; 20 U.S.C. 1400(c)(5)(B)). PTIs, consistent with section 671(b) (20 U.S.C. 1471(b)) of IDEA, serve families of children who may be inappropriately identified, underserved families, families with limited English proficiency, and families in which a parent may also experience a disability. PTIs help parents (a) navigate systems providing early intervention, special education and related services, general education, and postsecondary options; (b) understand the educational and service options available to them and their children; (c) understand the nature of their children's disabilities; (d) learn about their rights and responsibilities under IDEA; (e) expand their knowledge of evidence-based practices ³ to help their children succeed; (f) strengthen their collaboration with professionals; (g) locate resources for themselves and their children; and (h) advocate for improved child outcomes and student achievement, increased graduation rates, and improved postsecondary outcomes for all children through participation in program and school reform activities.

³ The term “evidenced-based practices” (EBPs) means, at a minimum, demonstrating a rationale (as defined in 34 CFR 77.1) based on high-quality research findings or positive evaluation that such activity, strategy, or intervention is likely to improve student outcomes or other relevant outcomes.

By providing parents with impartial information and individualized assistance and training, PTIs enable parents to (a) make informed decisions when choosing educational and early learning options that best meet the needs of their children; (b) help their children meet developmental and academic goals; (c) help their children meet challenging expectations established for all children; and (d) prepare their children to achieve positive postsecondary outcomes that lead to lives that are as productive and independent as possible. In addition, parent centers help youth with disabilities understand their rights and responsibilities and learn self-advocacy skills to prepare them to lead productive lives as independently as possible.

PTIs are also valuable partners to Federal, State, and local agencies, providing expertise on how to better support families and youth with disabilities so that they can effectively and efficiently access IDEA services. Projects must be awarded and operated in a manner consistent with the nondiscrimination requirements contained in the U.S. Constitution and the Federal civil rights laws.

CFDA 84.328M Priority:

The Department intends to fund 65 grants to establish and operate 65 PTIs. Based on the quality of applications received, the Department intends to fund one PTI in each of the following States: ⁴ Alabama, Alaska, Arizona, Arkansas, Colorado, Connecticut, Delaware, District of Columbia, Georgia, Hawaii, Idaho, Indiana, Iowa, Kansas, Kentucky, Louisiana, Maine, Maryland, Massachusetts, Michigan, Minnesota, Mississippi, Missouri, Montana, Nebraska, Nevada, New Hampshire, New Jersey, New Mexico, North Carolina, North Dakota, Ohio, Oklahoma, Oregon, Pennsylvania, Puerto Rico, Rhode Island, South Carolina, South Dakota, Tennessee, Utah, Vermont, U.S. Virgin Islands, Virginia, Washington, West Virginia, Wisconsin, Wyoming, and one PTI to serve the freely associated States ⁵ and outlying areas in the Pacific. In addition, the Department intends to fund PTIs to serve regions within each of the following States: California, Florida, Illinois, New York, and Texas. Regional PTIs will be better able to provide responsive services to families in the largest, most diverse States.

⁴ Under section 602(31) of IDEA, the term “State” means each of the 50 States, the District of Columbia, the Commonwealth of Puerto Rico, and each of the outlying areas. Under section 602(22) “outlying area” means the United States Virgin Islands, Guam, American Samoa, and the Commonwealth of the Northern Mariana Islands.

⁵ The freely associated States of the Federated States of Micronesia, the Republic of the Marshall Islands, and the Republic of Palau.

At a minimum, the PTIs must—(a) increase parents' capacity to help their children with disabilities improve their early learning, school-aged, and postsecondary outcomes; (b) increase parents' knowledge of educational and early learning options; and (c) increase youth with disabilities' capacity to be effective self-advocates.

In addition to these programmatic requirements, to be considered for funding under this priority, applicants must meet the following application and administrative requirements in this priority:

(a) In the narrative section of the application under “Significance,”—

(1) Present appropriate information on—

(i) The needs of parents in the geographic diversity of its State or region, including, but not limited to, underserved parents, low income parents, parents with limited English proficiency, and parents with disabilities;

(ii) The needs of youth with disabilities in the geographic diversity of its State or region, including, but not limited to, underserved youth, incarcerated youth, youth in foster care, and youth with limited English proficiency; and

(iii) The variety of educational options available within the State and local communities, and how parents and youth are made aware of these options; and

(2) Demonstrate how the proposed project will, within the geographic diversity in its State or region—

(i) Address the needs of parents of children with disabilities for high-quality services that increase parents' capacity to help their children with disabilities improve their early learning, school-aged, and postsecondary outcomes. To meet this requirement the applicant must—

(A) Demonstrate knowledge of best practices on providing training and information to the variety of parents in its State or region;

(B) Demonstrate knowledge of best practices in outreach and family-centered services;

(C) Demonstrate knowledge of current education practices and policy initiatives to improve outcomes in early intervention and early childhood, general and special education, transition services, and postsecondary options; and

(D) Demonstrate knowledge of how to identify and work with appropriate partners in the State, including local providers and lead agencies providing Part C services; State and local educational agencies; State child welfare agencies; disability-specific systems and entities serving families, such as the State's protection and advocacy system; vocational rehabilitation (VR) agencies; and other nonprofits serving families in order to improve outcomes; and

(ii) Address the needs of youth with disabilities for high-quality services that increase their capacity to be effective self-advocates. To meet this requirement the applicant must—

(A) Demonstrate knowledge of best practices for providing training and information to the variety of youth with disabilities in its State or region;

(B) Demonstrate knowledge of current education practices and policy initiatives in self-advocacy; and

(C) Demonstrate knowledge of how to work with appropriate partners serving youth with disabilities, including State and local VR agencies, other nonprofits, and Independent Living Centers that provide assistance such as postsecondary education options, employment training, and supports.

(b) Demonstrate, in the narrative section of the application under “Quality of project design,” how the proposed project will—

(1) Use a project logic model to guide the development of project plans and activities within its State or region;

Note: The following websites provide more information on logic models and conceptual frameworks: www.osepideasthatwork.org/logicModel and www.osepideasthatwork.org/resources-grantees/program-areas/ta-ta/tad-project-logic-model-and-conceptual-framework.

(2) Develop and implement an outreach plan to inform parents of children with disabilities of how they can benefit from the services provided by the PTI, including, but not limited to—

(i) Parents of children who may be inappropriately identified;

(ii) Underserved parents;

(iii) Parents with limited English proficiency;

(iv) Low-income parents; and

(v) Parents with disabilities; and

(3) Develop and implement an outreach plan to inform youth with disabilities of how they can benefit from the services provided by the PTI.

(c) Demonstrate, in the narrative section of the application under “Quality of project services,” how the proposed project will—

(1) Provide high-quality services that increase parents' capacity to help their children with disabilities improve their early learning, school-aged, and postsecondary outcomes. To meet this requirement the applicant must include information as to how the services will—

(i) Increase parents' knowledge of—

(A) The nature of their children's disabilities, including their children's strengths, and academic, behavioral, and developmental challenges;

(B) The importance of having high expectations for their children and how to help them meet those expectations;

(C) The local, State, and Federal resources available to assist them and their children and local resources that strengthen their connection to their communities;

(D) IDEA, Federal IDEA regulations, and State regulations, policies, and practices implementing IDEA, including—

(1) Their rights and responsibilities under IDEA, including procedural safeguards and dispute resolution;

(2) Their role on Individualized Family Service Plan (IFSP) and Individualized Education Program (IEP) Teams and how to effectively participate on IFSP and IEP Teams; and

(3) How services are provided under IDEA;

(E) Other relevant educational and health care legislation, including the Elementary and Secondary Education Act of 1965, as amended (ESEA); the Rehabilitation Act, especially section 504 of the Rehabilitation Act (Section 504) and the provisions established by the Workforce Innovation and Opportunity Act (WIOA); and the Americans with Disabilities Act (ADA);

(F) Transition services, at all levels, including Part C early intervention to Part B preschool, preschool to elementary school, elementary school to secondary school, secondary school to postsecondary education and workforce options, and re-entry of incarcerated youth to school and the community;

(G) The options available within the State and their community to educate and help their children meet educational and developmental outcomes;

(H) How their children can have access to the general education curriculum and inclusive early learning programs, including access to corresponding academic standards and assessments, extracurricular and enrichment opportunities, and other initiatives available to all children;

(I) Early intervention and education practices that improve outcomes and help children meet high expectations; and

(J) School reform efforts to improve student achievement and increase graduation rates; and

(ii) Increase parents' capacity to—

(A) Effectively support their children with disabilities and participate in their children's education;

(B) Make informed decisions when choosing educational and early learning options that best meet the needs of their children;

(C) Communicate effectively and work collaboratively in partnership with early intervention service providers, school-based personnel, related services personnel, and administrators;

(D) Resolve disputes effectively; and

(E) Participate in school reform activities to improve outcomes for all children;

(2) Provide high-quality services that increase youth with disabilities' capacity to be effective self-advocates. To meet this requirement the applicant must include information as to how the services will—

(i) Increase the knowledge of youth with disabilities about—

(A) The nature of their disabilities, including their strengths, and of their academic, behavioral, and developmental challenges;

(B) The importance of having high expectations for themselves and how to meet those expectations;

(C) The resources available to support their success in secondary and postsecondary education and employment and full participation in their communities;

(D) IDEA, Section 504, Rehabilitation Act, WIOA, ADA, and other legislation, regulations, and policies that affect people with disabilities;

(E) Their rights and responsibilities while receiving services under IDEA, the Rehabilitation Act, and WIOA, and after transitioning to post-school programs, services, and employment;

(F) How they can participate on IEP Teams;

(G) The options available within the State and their community to help them meet their educational and post-transition outcomes; and

(H) Supported decision making necessary to transition to adult life; and

(ii) Increase the capacity of youth with disabilities to—

(A) Advocate for themselves, including communicating effectively and working collaboratively in partnership with providers; and

(B) Make informed decisions when choosing educational options that best meet their needs;

(3) Use various methods to deliver services, including in-person and remotely through the use of technology;

(4) Use best practices for providing training and information to adult learners and youth;

(5) Establish cooperative partnerships with any CPRCs and any other PTIs funded in the State under sections 672 and 671 of IDEA, respectively;

(6) Establish cooperative partnerships with the Parent Training and Information Centers funded under the Rehabilitation Act (CFDA 84.235F) in the Regional Parent Technical Assistance Center's (Regional PTAC's) (CFDA 84.328R) region to which they belong, and the Center for Parent Information and Resources (CFDA 84.328R); and

(7) Network with local, State, and national organizations and agencies, such as protection and advocacy agencies and VR agencies that serve parents and families of children with disabilities, to better support families and children with disabilities to effectively and efficiently access IDEA and pre-employment transition services.

(d) In the narrative section of the application under “Quality of the project evaluation,” include an evaluation plan for the project as described in the following paragraphs. The evaluation plan must describe: Measures for evaluating the quality, accuracy, and impartiality of project services and products; measures of progress in implementation, including the criteria for determining the extent to which the project's products and services have met the goals for reaching its target population; measures of intended outcomes or results of the project's activities in order to evaluate those activities; and how well the goals or objectives of the proposed project, as described in its logic model, have been met.

(e) Demonstrate, in the narrative section of the application under “Adequacy of resources and quality of project personnel,” how—

(1) The applicant and any key partners have adequate resources to carry out the proposed activities; and

(2) The proposed costs are reasonable in relation to the anticipated results and benefits.

(3) The proposed project will encourage applications for employment from persons who are members of groups that have traditionally been underrepresented based on race, color, national origin, gender, age, or disability, as appropriate; and

(4) The proposed key project personnel, consultants, and subcontractors have the qualifications and experience to carry out the proposed activities and achieve the project's intended outcomes.

(f) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, impartial, relevant, and useful to recipients;

(4) The board of directors will be used to provide appropriate oversight to the project;

(5) The proposed project will benefit from a diversity of perspectives, including those of families using a variety of education options, youth, educators, and State and local providers, among others, in its development and operation;

(6) The proposed project will ensure that the annual performance reports submitted to the Department will—

(i) Be accurate and timely;

(ii) Include information on the projects' outputs and outcomes; and

(iii) Include, at a minimum, the number and demographics of parents and youth to whom the PTI provided information and training, the parents' and youth's unique needs, and the levels of service provided to them; and

(7) The project management and staff will—

(i) Make use of the technical assistance (TA) and products provided by the OSEP-funded Center on Parent Information and Resources, Regional PTACs, and other TA centers, as appropriate;

(ii) Participate in developing individualized TA plans with the Regional PTAC, as appropriate; and

(iii) Facilitate one site visit from the Regional PTAC during the grant cycle.

(g) Address the following application requirements. The applicant must—

(1) Include, in Appendix A, a logic model for the project;

(2) Include, in Appendix A, personnel-loading charts and timelines, as applicable, to illustrate the management plan described in the narrative;

(3) Include, in the budget, travel funds to support the project director's attendance at one meeting sponsored by OSEP or the Regional PTACs, at a minimum;

(4) Maintain a website that meets government or industry-recognized standards for accessibility and that includes, at a minimum, a current calendar of upcoming events, free informational publications for families, and links to webinars or other online multimedia resources; and

(5) Assure that the information provided to parents is accurate and impartial.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1471 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

CFDA 84.235F Absolute Priority—Parent Information and Training Program.

Background:

The purpose of this priority is for the Rehabilitation Services Administration (RSA) to fund eight Parent Information and Training (RSA-PTI) centers, to meet the information and training needs of individuals with disabilities and their families, so that individuals with disabilities can achieve their employment and independent living goals. The Secretary may fund out of rank order to ensure that the RSA-PTI centers will be distributed geographically throughout the country, with two RSA-PTI centers within each of the OSEP-funded Regional PTAC regions.⁶ Funding will be provided to the highest ranked applicant for each region. Applicants must propose to provide services to all States in a region:

⁶ For RSA-funded grants, “State” includes, in addition to each of the several States of the United States, the District of Columbia, the Commonwealth of Puerto Rico, the United States Virgin Islands, Guam, American Samoa, and the Commonwealth of the Northern Mariana Islands (Rehabilitation Act, Section 7(34)). The Regional PTAC regions and the States in those regions can be found at www.parentcenterhub.org/rptacs/.

Region A-1: Connecticut, Maine, Massachusetts, New Hampshire, Rhode Island, Vermont.

Region A-2: Delaware, Maryland, New Jersey, New York, Pennsylvania, District of Columbia, Puerto Rico, U.S. Virgin Islands.

Region B-1: Florida, Georgia, North Carolina, South Carolina, Tennessee, Virginia.

Region B-2: Alabama, Arkansas, Louisiana, Mississippi, Oklahoma, Texas.

Region C-1: Illinois, Indiana, Kentucky, Michigan, Minnesota, Ohio, West Virginia, Wisconsin.

Region C-2: Iowa, Kansas, Missouri, Montana, Nebraska, North Dakota, South Dakota, Wyoming.

Region D-1: Alaska, Hawaii, Oregon, Washington, American Samoa, the Commonwealth of the Northern Mariana Islands, Guam.

Region D-2: Arizona, California, Colorado, Idaho, Nevada, New Mexico, Utah.

The RSA-PTI centers will be designed to meet the unique training and information needs of individuals with disabilities and their families who live in the area to be served, particularly those who are members of populations that have been unserved or underserved by other Rehabilitation Act programs. The RSA-PTI centers will coordinate and work closely with the PTI centers established under the CFDA 84.328M priority pursuant to section 671 of IDEA. Finally, the RSA-PTI centers will help to build greater and more effective family engagement in the education and postsecondary transition of their children and create or expand partnerships with community-based organizations to provide supports and services to students and families.

The Department has funded RSA-PTI centers under the Rehabilitation Act since 1993. For individuals with disabilities and their families, particularly for youth of transition age, the need for information about postsecondary transition, VR, independent living, and other adult services is critical. The current Federal approach to assisting students with disabilities in transitioning to postsecondary education or the workforce necessitates that students and their parents navigate multiple programs and service systems in order to piece together the supports these students need to achieve maximum independence in adulthood. Under this complex arrangement, information dissemination and service coordination are essential (GAO, 2012).

Furthermore, although families may be familiar with the supports provided while a youth with disabilities is in secondary school, they may not be aware of options available for postsecondary education and training and may be intimidated by the process to obtain financial aid for such options. Without accurate and timely information about available services, students may miss opportunities to access services that could mean the difference between achieving an optimal level of self-sufficiency and relying on public assistance to meet their basic needs (GAO, 2012). Finally, although many youths with disabilities receive work experiences while in secondary school, additional exploration and on-the-job training experiences provided through a VR services program may introduce them to career possibilities not previously considered.

The RSA-PTI centers have provided information and training to thousands of individuals with disabilities and their families to help them better understand the varied eligibility requirements for, and the complex array of services provided by, programs that serve adults with disabilities. Having accurate and user-friendly information helps to ensure that individuals with disabilities receive the services that will help them achieve their employment and independent living goals. Projects must be awarded and operated in a manner consistent with the nondiscrimination requirements contained in the U.S. Constitution and the Federal civil rights laws.

References:

United States Government Accountability Office (GAO). (2012). Report to the Ranking Member, Committee on Education and the Workforce, House of Representatives. Students with Disabilities, Better Federal Coordination Could Lessen Challenges in the Transition from High School. July 2012. www.gao.gov/assets/600/592329.pdf.

CFDA 84.235F Priority:

Under this priority, we provide grants for the establishment or continuation of projects that provide information and training to assist individuals with disabilities, and the parents, family members, guardians, advocates, or authorized representatives of the individuals (hereafter collectively referred to as “individuals with disabilities and their families”) to participate more effectively with professionals in meeting the vocational, independent living, and rehabilitation needs of individuals with disabilities. To be considered for funding under this priority, an applicant must meet the application, programmatic, and administrative requirements of this priority. The applicant must address the following requirements and explain how it will assist individuals with disabilities, including youth of transition age, and their families to—

(a) Better understand VR and independent living programs and services. To meet this requirement, the applicant may describe—

(1) How it will assess the need across all States in the defined geographic region for information and training materials to inform individuals with disabilities and their families about VR and independent living services, particularly those that have been underserved in receiving the services the applicant intends to offer;

(2) The materials and training that will be developed to explain the VR process and how VR is designed to lead to high-quality competitive employment outcomes in the integrated labor market for individuals with disabilities;

(3) A plan for disseminating the materials developed across all States in the defined geographic region and particularly to families and individuals with disabilities that have been underserved in receiving the services the applicant intends to offer; and

(4) A plan for evaluating the information and training materials disseminated.

(b) Provide follow-up support for transition and employment programs. To meet this requirement, the applicant may describe—

(1) How it will identify and provide services to families and individuals with disabilities across all States in the defined geographic region and particularly to families and individuals with disabilities that have been underserved in receiving the services the applicant intends to offer;

(2) A plan for developing the necessary follow-up activities so that individuals with disabilities experience a smooth transition from secondary school activities to employment and other post-school activities;

(3) How it will develop and disseminate training materials on transition services and employment programs;

(4) A plan for evaluating the information and training materials disseminated on transition services and employment programs; and

(5) How it will develop collaborative arrangements with VR service providers and employers in the area to be served that will facilitate the provision of transition services and employment programs to support individuals with disabilities and their families.

(c) Communicate more effectively with transition and rehabilitation personnel and other relevant professionals. To meet this requirement, the applicant may describe—

(1) How it will identify and provide services to families and individuals with disabilities across all States in the defined geographic region and particularly to families and individuals with disabilities that have been underserved in receiving the services the applicant intends to offer;

(2) How training will be provided to individuals with disabilities and their families to help them understand the language and the frame of reference that rehabilitation professionals use in their work so that such individuals and their families will be capable of communicating effectively with such professionals;

(3) How the needs of individuals with disabilities and their families who are from culturally diverse backgrounds or who have varying communication needs will be addressed; and

(4) How the effectiveness of the training will be evaluated.

(d) Provide support in the development of the individualized plan for employment (IPE). To meet this requirement the applicant may describe—

(1) How it will identify and provide services to families and individuals with disabilities across all States in the defined geographic region and particularly to families and individuals with disabilities that have been underserved in receiving the services the applicant intends to offer;

(2) How it will provide training to individuals with disabilities and their families to help them develop IEPs with a focus on transition services needed in order to achieve high-quality employment and independence and that will later be coordinated with the IPEs developed for the individuals; and

(3) How it will provide training to individuals with disabilities and their families to help them develop comprehensive IPEs leading to employment goals consistent with the individuals' strengths, abilities, and informed choice.

(e) Provide support and expertise in obtaining information about rehabilitation and independent living programs, services, and resources that are appropriate. To meet this requirement the applicant may describe—

(1) How it will identify and provide services to families and individuals with disabilities across all States in the defined geographic region and particularly to families and individuals with disabilities that have been underserved in receiving the services the applicant intends to offer;

(2) How it will develop and disseminate materials to educate individuals with disabilities and their families about the array of transition, rehabilitation, and independent living services and programs available in the area to be served;

(3) How it will provide information to individuals with disabilities from diverse ethnic, cultural, and linguistic backgrounds and how it will provide information in accessible formats (e.g., languages other than English or in braille or large print); and

(4) How it will develop relationships with rehabilitation and independent living service providers in the area to be served so that the information the PTI provides is current and meaningful.

(f) Provide support and guidance in helping individuals with significant disabilities, including students with disabilities, transition to competitive integrated employment. To meet this requirement the applicant may describe—

(1) How it will identify and provide services to families and individuals with disabilities across all States in the defined geographic region and particularly to families and individuals with disabilities that have been underserved in receiving the services the applicant intends to offer;

(2) How it will develop relationships with schools and employers to educate individuals with disabilities and their families about competitive integrated employment opportunities;

(3) How it will provide information regarding competitive integrated work-based learning opportunities and employment opportunities to individuals with disabilities from diverse ethnic, cultural, and linguistic backgrounds; and

(4) How it will develop relationships with VR services providers and employers in the area to be served so that the information the PTI provides is current and meaningful.

(g) Understand the provisions of the Rehabilitation Act, particularly provisions relating to employment, supported employment, and independent living. To meet this requirement the applicant may describe—

(1) How it would train individuals with disabilities and their families about how to access, and what to expect from, VR and independent living programs available under the Rehabilitation Act and how such services and programs can help individuals with disabilities achieve their goals in postsecondary education, independent living, and high-quality competitive employment in the integrated labor market, including supported employment; and

(2) How it would provide information to individuals with disabilities and their families on the rights such individuals have to access these programs and their rights to due process if they are not satisfied with the services they receive.

Program Authority: 29 U.S.C. 773(c).

Applicable Regulations: (a) The Education Department General Administrative Regulations (EDGAR) in 34 CFR parts 75, 77, 79, 81, 82, 84, 86, 97, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

CFDA 84.328M Absolute Priority

Type of Award: Discretionary grants.

Estimated Available Funds: $21,195,248.

Contingent upon the availability of funds and the quality of applications, we may make additional awards in subsequent years from the list of unfunded applications from this competition.

Information concerning funding amounts for individual States for this competition is provided in the “Maximum Award” column of the table in this section.

The Department took into consideration current funding levels, population distribution, poverty rates, and low-density enrollment when determining the award amounts for grants under this competition. For the States listed in the funding table, one award may be made for up to the amounts listed in the table to a qualified applicant for a PTI to serve the entire State.

Estimated Range of Awards: $103,612 to $679,768.

Estimated Average Size of Awards: $326,081.

Maximum Award: See table. We will not make an award exceeding the corresponding amount shown in the table for each State for a single budget period of 12 months.

Applications for one five-year award will be accepted to serve the area in the Pacific comprised of American Samoa, Guam, the Commonwealth of the Northern Mariana Islands, and the Freely Associated States consisting of the Federated States of Micronesia, the Republic of the Marshall Islands, and the Republic of Palau.

Applications for five-year awards will also be accepted to serve regions in the following States:

California:

Region 1—Los Angeles county;

Region 2—Imperial, Orange, Riverside, San Bernardino, and San Diego counties;

Region 3—Fresno, Inyo, Kern, Kings, Madera, Mariposa, Merced, Mono, San Luis Obispo, Santa Barbara, Tulare, and Ventura counties;

Region 4—Alameda, Contra Costa, Marin, Monterey, Napa, San Benito, San Francisco, San Mateo, Santa Clara, Santa Cruz, Solano, and Sonoma counties; and

Region 5—Alpine, Amador, Butte, Calaveras, Colusa, Del Norte, El Dorado, Glenn, Humboldt, Lake, Lassen, Mendocino, Modoc, Nevada, Placer, Plumas, Sacramento, San Joaquin, Shasta, Sierra, Siskiyou, Stanislaus, Sutter, Tehama, Trinity, Tuolumne, Yolo, and Yuba counties.

Florida:

Region 1—Alachua, Baker, Bay, Bradford, Brevard, Calhoun, Clay, Columbia, Dixie, Duval, Escambia, Flagler, Franklin, Gadsden, Gilchrist, Gulf, Hamilton, Holmes, Jackson, Jefferson, Lafayette, Leon, Levy, Liberty, Madison, Marion, Nassau, Okaloosa, Putnam, Santa Rosa, Seminole, St. Johns, Suwannee, Taylor, Union, Volusia, Wakulla, Walton, and Washington counties;

Region 2—Charlotte, Citrus, Collier, DeSoto, Glades, Hardee, Hendry, Hernando, Highlands, Hillsborough, Lee, Manatee, Pasco, Pinellas, Sarasota, and Sumter counties; and

Region 3—Broward, Indian River, Lake, Martin, Miami-Dade, Monroe, Okeechobee, Orange, Osceola, Palm Beach, Polk, and St. Lucie counties.

Illinois:

Region 1—Cook, DuPage, Grundy, Kane, Kendall, Lake, McHenry, and Will counties; and

Region 2—The rest of the State of Illinois.

New York:

Region 1—Bronx, Kings, Nassau, New York, Queens, Richmond, and Suffolk counties; and

Region 2—The rest of the State of New York.

Texas:

Region 1—Atascosa, Bandera, Bastrop, Bexar, Blanco, Burnet, Caldwell, Cameron, Comal, Dimmit, Fayette, Frio, Gillespie, Gonzales, Guadalupe, Hays, Hidalgo, Jim Hogg, Kendall, Kerr, Kinney, La Salle, Lee, Llano, Maverick, Medina, Real, Starr, Travis, Uvalde, Webb, Willacy, Williamson, Wilson, Zapata, and Zavala counties;

Region 2—Andrews, Archer, Armstrong, Bailey, Baylor, Bell, Borden, Bosque, Brewster, Briscoe, Brown, Callahan, Carson, Castro, Childress, Clay, Cochran, Coke, Coleman, Collingsworth, Comanche, Concho, Coryell, Cottle, Crane, Crockett, Crosby, Culberson, Dallam, Dawson, Deaf Smith, Dickens, Donley, Eastland, Ector, Edwards, El Paso, Falls, Fisher, Floyd, Foard, Freestone, Gaines, Garza, Glasscock, Gray, Hale, Hall, Hamilton, Hansford, Hardeman, Hartley, Haskell, Hemphill, Hill, Hockley, Howard, Hudspeth, Hutchinson, Irion, Jack, Jeff Davis, Jones, Kent, Kimble, King, Knox, Loving, Lamb, Lampasas, Limestone, Lipscomb, Lubbock, Lynn, Martin, Mason, McCulloch, McLennan, Menard, Midland, Mills, Mitchell, Montague, Moore, Motley, Navarro, Nolan, Ochiltree, Oldham, Parmer, Pecos, Potter, Presidio, Randall, Reagan, Reeves, Roberts, Runnels, San Saba, Schleicher, Scurry, Shackelford, Sherman, Stephens, Sterling, Stonewall, Sutton, Swisher, Taylor, Terrell, Terry, Throckmorton, Tom Green, Upton, Val Verde, Ward, Wheeler, Wichita, Wilbarger, Winkler, Yoakum, and Young counties;

Region 3—Anderson, Angelina, Bowie, Camp, Cass, Cherokee, Collin, Cooke, Dallas, Delta, Denton, Ellis, Erath, Fannin, Franklin, Grayson, Gregg, Harrison, Henderson, Hood, Hopkins, Hunt, Johnson, Kaufman, Lamar, Marion, Morris, Nacogdoches, Palo Pinto, Panola, Parker, Rains, Red River, Rockwall, Rusk, Sabine, San Augustine, Shelby, Smith, Somervell, Tarrant, Titus, Upshur, Van Zandt, Wise, and Wood counties; and

Region 4—Aransas, Austin, Bee, Brazoria, Brazos, Brooks, Burleson, Calhoun, Chambers, Colorado, DeWitt, Duval, Fort Bend, Galveston, Goliad, Grimes, Hardin, Harris, Houston, Jackson, Jasper, Jefferson, Jim Wells, Karnes, Kenedy, Kleberg, Lavaca, Leon, Liberty, Live Oak, Madison, Matagorda, McMullen, Milam, Montgomery, Newton, Nueces, Orange, Polk, Refugio, Robertson, San Jacinto, San Patricio, Trinity, Tyler, Victoria, Walker, Waller, Washington, and Wharton counties.

Applicants for PTIs to serve the regions within these States must submit a separate application for each of the regions they propose to serve.

Estimated Number of Awards: 65.

Note: The Department is not bound by any estimates in this notice.

Project Period: Up to 60 months.

Training and Information for Parents of Children With Disabilities—Parent Training and Information Centers (84.328M) Application Notice for FY 2020
State | Maximum award
ALABAMA | $298,602
ALASKA | 200,000
ARIZONA | 402,873
ARKANSAS | 200,000
CALIFORNIA |
CA Region 1 | 532,105
CA Region 2 | 660,910
CA Region 3 | 307,981
CA Region 4 | 406,987
CA Region 5 | 294,664
COLORADO | 306,283
CONNECTICUT | 200,000
DELAWARE | 200,000
DISTRICT OF COLUMBIA | 200,000
FLORIDA |
FL Region 1 | 283,230
FL Region 2 | 262,640
FL Region 3 | 490,620
GEORGIA | 639,236
HAWAII | 200,000
IDAHO | 200,000
ILLINOIS |
IL Region 1 | 480,387
IL Region 2 | 227,148
INDIANA | 403,124
IOWA | 200,000
KANSAS | 200,000
KENTUCKY | 273,114
LOUISIANA | 293,313
MAINE | 200,000
MARYLAND | 317,529
MASSACHUSETTS | 348,565
MICHIGAN | 572,037
MINNESOTA | 314,959
MISSISSIPPI | 200,590
MISSOURI | 355,206
MONTANA | 200,000
NEBRASKA | 200,000
NEVADA | 200,000
NEW HAMPSHIRE | 200,000
NEW JERSEY | 456,033
NEW MEXICO | 200,000
NEW YORK |
NY Region 1 | 595,579
NY Region 2 | 463,700
NORTH CAROLINA | 609,015
NORTH DAKOTA | 200,000
OHIO | 660,275
OKLAHOMA | 248,200
OREGON | 219,788
PACIFIC | 200,000
PENNSYLVANIA | 679,768
PUERTO RICO | 202,373
RHODE ISLAND | 200,000
SOUTH CAROLINA | 293,497
SOUTH DAKOTA | 200,000
TENNESSEE | 395,568
TEXAS |
TX Region 1 | 430,303
TX Region 2 | 245,844
TX Region 3 | 558,001
TX Region 4 | 550,550
U.S. VIRGIN ISLANDS | 103,612
UTAH | 210,656
VERMONT | 200,000
VIRGINIA | 471,006
WASHINGTON | 400,789
WEST VIRGINIA | 200,000
WISCONSIN | 328,588
WYOMING | 200,000

CFDA 84.235F Absolute Priority

Type of Award: Discretionary grants.

Estimated Available Funds: $2,400,000.

Contingent upon the availability of funds and the quality of applications, we may make additional awards in subsequent years from the list of unfunded applications from this competition.

Maximum Award: $300,000.

Estimated Number of Awards: 8. Funding will be provided to the top-ranked applicant that provides services to all of the States listed in each of the identified regions as outlined in the following table.

Region | States within region | Maximum award amount
A-1 | Connecticut, Maine, Massachusetts, New Hampshire, Rhode Island, Vermont | $300,000
A-2 | Delaware, Maryland, New Jersey, New York, Pennsylvania, District of Columbia, Puerto Rico, U.S. Virgin Islands | 300,000
B-1 | Florida, Georgia, North Carolina, South Carolina, Tennessee, Virginia | 300,000
B-2 | Alabama, Arkansas, Louisiana, Mississippi, Oklahoma, Texas | 300,000
C-1 | Illinois, Indiana, Kentucky, Michigan, Minnesota, Ohio, West Virginia, Wisconsin | 300,000
C-2 | Iowa, Kansas, Missouri, Montana, Nebraska, North Dakota, South Dakota, Wyoming | 300,000
D-1 | Alaska, Hawaii, Oregon, Washington, American Samoa, the Commonwealth of the Northern Mariana Islands, Guam | 300,000
D-2 | Arizona, California, Colorado, Idaho, Nevada, New Mexico, Utah | 300,000

Note: The Department is not bound by any estimates in this notice.

Project Period: Up to 60 months.

III. Eligibility Information

CFDA 84.328M Absolute Priority

1. Eligible Applicants: Parent organizations.

Note: Section 671(a)(2) of IDEA defines a “parent organization” as a private nonprofit organization (other than an IHE) that—

(a) Has a board of directors—

(1) The majority of whom are parents of children with disabilities ages birth through 26;

(2) That includes—

(i) Individuals working in the fields of special education, related services, and early intervention; and

(ii) Individuals with disabilities; and

(3) The parent and professional members of which are broadly representative of the population to be served, including low-income parents and parents of limited English proficient children; and

(b) Has as its mission serving families of children with disabilities who are ages birth through 26, and have the full range of disabilities described in section 602(3) of IDEA.

2. Cost Sharing or Matching: This program does not require cost sharing or matching.

3. Subgrantees: Under 34 CFR 75.708(b) and (c), a grantee under this competition may award subgrants—to directly carry out project activities described in its application—to the following types of entities: IHEs and private nonprofit organizations suitable to carry out the activities proposed in the application.

The grantee may award subgrants to entities it has identified in an approved application.

4. Other General Requirements: (a) Recipients of funding under this program must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

CFDA 84.235F Absolute Priority

1. Eligible Applicants: Private nonprofit organizations that meet the requirements in section 303(c)(4) of the Rehabilitation Act. An applicant must—

(a) Include information demonstrating the capacity and expertise of the organization to—

(i) Coordinate training and information activities with Centers for Independent Living;

(ii) Coordinate and work closely with PTIs established pursuant to section 671 of IDEA, the CPRCs established pursuant to section 672 of IDEA, and the eligible entities receiving awards under section 673 of IDEA; and

(iii) Effectively conduct the training and information activities authorized in section 303 of the Rehabilitation Act;

(b) Be governed by a board of directors that—

(i) Includes professionals in the VR field; and on which a majority of the members are individuals with disabilities or the parents, family members, guardians, advocates, or authorized representatives of the individuals; or

(ii) Has a membership that represents the interests of individuals with disabilities; and establishes a special governing committee to operate a training and information program under section 303(c)(4) of the Rehabilitation Act that includes professionals in the VR field and on which a majority of the members are individuals with disabilities or the parents, family members, guardians, advocates, or authorized representatives of the individuals; and may include representatives from special education and other public and private agencies on the board, as appropriate; and

(c) Serve, and demonstrate the capacity for serving, individuals with a full range of disabilities, and the parents, family members, guardians, advocates, or authorized representatives of the individuals.

2. Cost Sharing or Matching: This program does not require cost sharing or matching.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf.

Eligible applicants may apply for both absolute priorities but must submit separate applications for each absolute priority. An applicant may apply only once under each identified region of the CFDA 84.235F priority. An applicant may apply only once under the CFDA 84.328M priority, except an applicant may apply for multiple regional centers within a single State and must submit a separate application for each region. For example, an applicant applying for the 84.328M grant for Idaho and the 84.235F grant for region D-2, which contains Idaho, must submit separate applications under both CFDA numbers. Or an applicant submitting for multiple 84.328M regions within Texas must submit separate applications for each region. If the applicant also applies for an 84.235F grant for region B-2, which contains Texas, the applicant must submit a separate application for the 84.235F grant.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 50 pages, and (2) use the following standards:

• A “page” is 8.5″ x 11″, on one side only, with 1″ margins at the top, bottom, and both sides.

• Double space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for these competitions are from 34 CFR 75.210 and are as follows:

CFDA 84.328M Absolute Priority and CFDA 84.235F Absolute Priority

(a) Significance. (15 points)

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses; and

(ii) The importance or magnitude of the results or outcomes likely to be attained by the proposed project.

(b) Quality of the project design. (10 points)

(1) The Secretary considers the quality of the design of the proposed project.

(2) In determining the quality of the design of the proposed project, the Secretary considers the following factors:

(i) The extent to which the goals, objectives, and outcomes to be achieved by the proposed project are clearly specified and measurable; and

(ii) The extent to which there is a conceptual framework underlying the proposed research or demonstration activities and the quality of that framework.

(c) Quality of project services. (25 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project reflect up-to-date knowledge from research and effective practice;

(ii) The extent to which the services to be provided by the proposed project are appropriate to the needs of the intended recipients or beneficiaries of those services;

(iii) The extent to which the services to be provided by the proposed project involve the collaboration of appropriate partners for maximizing the effectiveness of project services; and

(iv) The extent to which the TA services to be provided by the proposed project involve the use of efficient strategies, including the use of technology, as appropriate, and the leveraging of non-project resources.

(d) Quality of the project evaluation. (15 points)

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation are appropriate to the context within which the project operates;

(iii) The extent to which the methods of evaluation will provide performance feedback and permit periodic assessment of progress toward achieving intended outcomes; and

(iv) The extent to which the methods of evaluation include the use of objective performance measures that are clearly related to the intended outcomes of the project and will produce quantitative and qualitative data to the extent possible.

(e) Adequacy of resources and quality of project personnel. (20 points)

(1) The Secretary considers the adequacy of resources and quality of project personnel for the proposed project.

(2) In determining the adequacy of resources and quality of project personnel for the proposed project, the Secretary considers the following factors:

(i) The adequacy of support, including facilities, equipment, supplies, and other resources, from the applicant organization or the lead applicant organization;

(ii) The extent to which the costs are reasonable in relation to the objectives, design, and potential significance of the proposed project;

(iii) The extent to which the applicant encourages applications for employment from persons who are members of groups that have traditionally been underrepresented based on race, color, national origin, gender, age, or disability;

(iv) The qualifications, including relevant training and experience, of key project personnel;

(v) The qualifications, including relevant training and experience, of project consultants or subcontractors; and

(vi) The relevance and demonstrated commitment of each partner in the proposed project to the implementation and success of the project.

(f) Quality of the management plan. (15 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks;

(ii) The extent to which the time commitments of the project director and principal investigator and other key project personnel are appropriate and adequate to meet the objectives of the proposed project;

(iii) The adequacy of mechanisms for ensuring high-quality products and services from the proposed project; and

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that, for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures:

CFDA 84.328M Absolute Priority:

Under the Government Performance Results Modernization Act of 2010 (GPRA 2010), the Department has established a set of performance measures, including long-term measures, that are designed to yield information on the quality, relevance, and usefulness of the materials, products, and services of the Training and Information for Parents of Children with Disabilities program. These measures are:

• Program Performance Measure 1: The percentage of materials used by projects that are deemed to be of high quality;

• Program Performance Measure 2: The percentage of products and services deemed to be of high relevance to educational and early intervention policy and practice; and

• Program Performance Measure 3: The percentage of all products and services deemed to be useful to improve educational or early intervention policy or practice.

• Program Performance Measure 4: The percentage of individuals with disabilities and their families receiving PTI services who report enhanced knowledge and understanding of IDEA services.

Grantees will be required to report information on their project's performance in annual reports to the Department (34 CFR 75.590).

CFDA 84.235F Absolute Priority:

GPRA 2010 directs Federal departments and agencies to improve the effectiveness of programs by engaging in strategic planning, setting outcome-related goals for programs, and measuring program results against those goals. The required annual report must include information on two measures:

• Program Performance Measure 1: The percentage of individuals with disabilities and their families receiving PTI services who report enhanced knowledge and understanding of VR services; and

• Program Performance Measure 2: The percentage of all products and services developed to improve VR service utilization deemed to be useful by individuals with disabilities and their families receiving PTI services.

The data needed to support these measures will be collected by grantees via survey, assessed, and reported in the aggregate to RSA. Grantees will negotiate targets with RSA after the first year, which will be used to establish a baseline.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact persons listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schultz,
Commissioner, Rehabilitation Services Administration. Delegated the authority to perform the functions and duties of the Assistant Secretary for the Office of Special Education and Rehabilitative Services.

[FR Doc. 2020-08390 Filed 4-20-20; 8:45 am]

BILLING CODE 4000-01-P